DEPARTMENT OF HEALTH AND HUMAN SERVICES

Administration for Children and Families

[OMB #0970-0196]

Proposed Information Collection Activity; Multistate Financial Institution Data Match With Federally Assisted State Transmitted Levy

AGENCY: Office of Child Support Enforcement, Administration for Children and Families, HHS.

ACTION: Request for Public Comment.

SUMMARY: The Administration for Children and Families' (ACF) Office of Child Support Enforcement (OCSE) is requesting a 3-year extension of the currently approved Multistate Financial Institution Data Match with Federally Assisted State Transmitted Levy (MSFIDM/FAST Levy) (current OMB approval expires 1/31/2021).

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: State child support enforcement agencies are statutorily required to enter into data matching agreements with financial institutions doing business in their state to locate obligors' accounts. OCSE operates the MSFIDM program through the Federal Parent Locator Service (FPLS) and facilitates the required data match between state child support agencies and financial institutions doing business in multiple states. State child support enforcement agencies use the data match outcomes to fulfill a statutory requirement to seize an obligor's assets to satisfy overdue child support payments.

OCSE also operates FAST Levy, which is an automated application within the FPLS to exchange electronic lien/levy information securely and efficiently. State child support enforcement agencies and multistate financial institutions (MSFIs) use FAST Levy to seize financial assets more quickly and efficiently.

Respondents: MSFIs and state child support agencies.

Annual Burden Estimates
Instrument | Annual number of respondents | Annual number of responses per respondent | Average annual burden hours per response | Annual burden hours
Financial Data Match Record Specifications: Match File Upload/Download: Portal Users | 184 | 4 | .083 | 61.1
Election Form | 15 | 1 | .5 | 7.5
FAST Levy Response Withhold Record Specifications: Financial Institutions | 1 | 1 | 1,716 | 1,716.0
FAST Levy Request Withhold Record Specifications: State Child Support Agencies | 1 | 1 | 1,610 | 1,610.0
Estimated Total Annual Burden Hours: 3,394.6.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 652(l), 42 U.S.C. 666(a)(2) and (c)(1)(G)(ii), 42 U.S.C. 666(a)(17)(A), 42 U.S.C. 652(a)(7), and 45 CFR 303.7(a)(5).

John M. Sweet Jr.,
ACF/OPRE Certifying Officer.

[FR Doc. 2020-16891 Filed 8-3-20; 8:45 am]

BILLING CODE 4184-41-P